DEPARTMENT OF STATE

[Public Notice 5011]

FY-2006 English Language Fellow Program; Bidders' Workshop

The Bureau of Educational and Cultural Affairs invites potential applicants to attend a bidders' workshop in conjunction with the Request for Grant Proposals (RFGP), #ECA/A/L-06-01 for the management of the FY-2006 English Language Fellow Program. This session is scheduled for Wednesday March 23 at the U.S. Department of State Annex 44, 301 4th Street, SW., Room 800A, Washington, DC 20547 from 2-4 p.m.

Interested parties must contact Catherine Williamson at (202) 619-5878, e-mail: williamsoncj@state.gov or Janice Curreri at (202) 619-5885, e-mail: currerijl@state.gov no later than Monday, March 21, 2005, to confirm attendance.

The workshop will provide an overview of the English Language Fellow Program, the responsibilities of the grantee organization selected to administer the FY-2006 program as outlined in the RFGP, and provide the opportunity for participants to ask questions about the program and the RFGP.

Participants are responsible for paying their own roundtrip transportation to Washington, DC and all other related costs.

Dated: March 4, 2005.
C. Miller Crouch,
Principal Deputy Assistant Secretary, Bureau of Educational and Cultural Affairs, Department of State.

[FR Doc. 05-4718 Filed 3-9-05; 8:45 am]

BILLING CODE 4710-05-P